DEPARTMENT OF TRANSPORTATION

Surface Transportation Board

[STB Finance Docket No. 34660]

Georgia Central Railway, L.P.—Acquisition and Operation Exemption—Rail line of CSX Transportation, Inc.

Georgia Central Railway, L.P. (Georgia Central), a Class III rail carrier, has filed a verified notice of exemption under 49 CFR 1150.41 to acquire by purchase from CSX Transportation, Inc. (CSXT) and operate approximately 57.2 miles of rail line between milepost SK 0.8 at Macon, and milepost SK 58.0 at East Dublin, in Bibb, Twiggs, Wilkinson, and Laurens Counties, GA.¹

¹ Georgia Central currently leases the line and underlying right-of-way (ROW) from CSXT. After the transaction, Georgia Central will own the line but continue to lease the underlying ROW from CSXT. Georgia Central will also continue to be the operator of the line.

Georgia Central indicates that the parties contemplate consummating the transaction on or about February 28, 2005. Georgia Central certifies that its projected revenues as a result of this transaction will not result in the creation of a Class II or Class I rail carrier.²

² Georgia Central also stated that its projected annual revenues following the transaction will exceed $5 million, but it requested waiver of the 60-day advance labor notice requirement at 49 CFR 1150.42(e). That request is being addressed by the Board in a separate decision. The Board's decision on the request will affect the effective date of the exemption and hence the date on which the transaction could be consummated.

If the notice contains false or misleading information, the exemption is void ab initio. Petitions to revoke the exemption under 49 U.S.C. 10502(d) may be filed at any time. The filing of a petition to revoke will not automatically stay the transaction.

An original and 10 copies of all pleadings, referring to STB Finance Docket No. 34660, must be filed with the Surface Transportation Board, 1925 K Street, NW., Washington, DC 20423-0001. In addition, one copy of each pleading must be served on Andrew B. Kolesar III, 1224 17th Street, NW., Washington, DC 20036.

Board decisions and notices are available on our Web site at http://www.stb.dot.gov.

Decided: February 25, 2005.
By the Board, David M. Konschnik, Director, Office of Proceedings.
Vernon A. Williams,
Secretary.

[FR Doc. 05-4101 Filed 3-2-05; 8:45 am]

BILLING CODE 4915-01-P